DEPARTMENT OF STATE

[Public Notice: 6506]

Title: 30-Day Notice of Proposed Information Collection: Form DS-0071, Affidavit of Identifying Witness, 1405-0088

ACTION: Notice of request for public comment and submission to OMB of proposed collection of information.

SUMMARY: The Department of State has submitted the following information collection request to the Office of Management and Budget (OMB) for approval in accordance with the Paperwork Reduction Act of 1995.

• Title of Information Collection: Affidavit of Identifying Witness.

• OMB Control Number: 1405-0088.

• Type of Request: Revision of a Currently Approved Collection.

• Originating Office: Department of State, Bureau of Consular Affairs, Passport Services, Office of Field Operations, Field Coordination Division. CA/PPT/FO/FC.

• Form Number: DS-0071.

• Respondents: Individuals or Households.

• Estimated Number of Respondents: 163,300.

• Estimated Number of Responses: 163,300.

• Average Hours per Response: 5 minutes.

• Total Estimated Burden: 13,608 hours.

• Frequency: On occasion.

• Obligation to Respond: Required to Obtain or Retain a Benefit.

DATES: Submit comments to the Office of Management and Budget (OMB) for up to 30 days from February 3, 2009.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from Andrina Agnew, U.S. Department of State, CA/PPT/FO/FC, 2100 Pennsylvania Avenue, NW., Suite 3040, SA-29, Washington, DC 20037, who may be reached on (202) 663-2445 or at agnewam@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection: The Affidavit of Identifying Witness, Form DS-0071, is used by the Department of State in making a determination of the applicant's eligibility to be documented as a citizen or a non-citizen national of the United States. The form is used by Passport Agents, Acceptance Agents, and Consular Officers to collect information for the purpose of establishing the identity of a passport applicant who has not submitted adequate evidence with his/her passport application. The primary purpose for soliciting the information is to establish identity and eligibility for a United States passport, and to properly administer and enforce the laws pertaining to issuance thereof. Lack of identity information may result in the denial of an application for a United States passport. Inaccurate identity evidence could possibly result in issuance of a passport to a non-U.S. citizen or to someone using an assumed identity.

Methodology: The Affidavit of Identifying Witness, Form DS-0071, is used in conjunction with the Application for a U.S. Passport, Form DS-0011. This affidavit is required to be included with a passport application only when the applicant for a passport is unable to establish his or her identity to the satisfaction of a person authorized to accept passport applications. The identifying witness must complete and sign this form in the presence of the person authorized to accept passport applications.

Dated: January 23, 2009.
Brenda S. Sprague,
Deputy Assistant Secretary for Passport Services, Bureau of Consular Affairs, Department of State.

[FR Doc. E9-2243 Filed 2-2-09; 8:45 am]

BILLING CODE 4710-06-P